AFRICAN DEVELOPMENT FOUNDATION

Board of Directors Executive Session Meeting

Meeting: African Development Foundation, Board of Directors Executive Session Meeting.

Time: Tuesday, October 23, 2012, 8:30 a.m. to 12:30 p.m.

Place: 1400 Eye Street NW., Suite 1000, Washington, DC 20005.

Date: Tuesday, October 23, 2012.

Status:

1. Closed session, Tuesday, October 23, 2012, 8:30 a.m. to 10:30 a.m.

2. Open session, Tuesday, October 23, 2012, 10:45 a.m. to 12:30 p.m.

Lloyd O. Pierson,
President & CEO, USADF.

[FR Doc. 2012-25060 Filed 10-11-12; 8:45 am]

BILLING CODE P